SMALL BUSINESS ADMINISTRATION

13 CFR Ch. I

Semiannual Regulatory Agenda

AGENCY: U.S. Small Business Administration (SBA).

ACTION: Semiannual Regulatory Agenda.

SUMMARY: This semiannual Regulatory Agenda (Agenda) is a summary of current and projected rulemakings and completed actions of the Small Business Administration (SBA). This summary information is intended to enable the public to be more aware of, and effectively participate in, SBA's regulatory activities. Accordingly, SBA invites the public to submit comments on any aspect of this Agenda.

FOR FURTHER INFORMATION CONTACT:

General

Please direct general comments or inquiries to Lindsey K. McCready, U.S. Small Business Administration, 409 Third Street SW, Washington, DC 20416; (202) 401-2996; lindsey.mccready@sba.gov.

Specific

Please direct specific comments and inquiries on individual regulatory activities identified in this Agenda to the individual listed in the summary of the regulation as the point of contact for that regulation.

SUPPLEMENTARY INFORMATION: The Regulatory Flexibility Act (RFA) requires SBA to publish in the Federal Register a semiannual regulatory flexibility agenda describing those Agency rules that are likely to have a significant economic impact on a substantial number of small entities (5 U.S.C. 602). The summary information published in the Federal Register is limited to those rules. Additional information regarding all of the rulemakings SBA expects to consider in the next 12 months is included in the Federal Government's unified Regulatory Agenda, which will be available online at www.reginfo.gov in a format that offers users enhanced ability to obtain information about SBA's rules.

Isabella Casillas Guzman,
Administrator.

Small Business Administration—Proposed Rule Stage
Sequence No. | Title | Regulation Identifier No.
203 | Small Business Development Center Program Revisions | 3245-AE05
204 | Small Business Size Standards: Adjustment of Alternative Size Standard for SBA's 7(a) and CDC/504 Loan Programs for Inflation; and Surety Bond Limits: Adjustments for Inflation | 3245-AG16
205 | Affiliation in Small Business Procurement Programs; Women-Owned Small Business Program | 3245-AH97

Small Business Administration—Final Rule Stage
Sequence No. | Title | Regulation Identifier No.
206 | Small Business Timber Set-Aside Program | 3245-AG69
207 | National Defense Authorization Act of 2020, Credit for Lower Tier Subcontracting and Other Amendments | 3245-AH28
208 | Small Business Size Standards: Adjustment of Monetary Based Size Standards, Disadvantage Thresholds, and 8(a) Eligibility Thresholds for Inflation | 3245-AH93

Small Business Administration—Completed Actions
Sequence No. | Title | Regulation Identifier No.
209 | Small Business Size Standards: Manufacturing and Industries With Employee Based Size Standards in Other Sectors Except Wholesale Trade and Retail Trade | 3245-AH09
210 | Small Business Size Standards: Adjustment of Monetary Based Size Standards for Inflation | 3245-AH17
211 | Small Business Lending Company (SBLC) Moratorium Rescission and Removal of the Requirement for a Loan Authorization | 3245-AH92

SMALL BUSINESS ADMINISTRATION (SBA)

Proposed Rule Stage

203. Small Business Development Center Program Revisions [3245-AE05]

Legal Authority: 15 U.S.C. 634(b)(6); 15 U.S.C. 648

Abstract: This rule proposes to update the Small Business Development Center (SBDC) program regulations by proposing to amend: (1) procedures for approving when a new Lead SBDC Center Director is selected; (2) procedures and requirements regarding findings and disputes resulting from financial exams, programmatic reviews, accreditation reviews, and other SBA oversight activities; (3) procedures regarding the determination to affect suspension, termination or non-renewal of an SBDC's cooperative agreement; and (4) provisions regarding the collection and use of the individual SBDC client data.

Timetable:

Action | Date | FR Cite
ANPRM | 04/02/15 | 80 FR 17708
ANPRM Comment Period End | 06/01/15 |
NPRM | 09/00/23 |

Regulatory Flexibility Analysis Required: Yes.

Agency Contact: Rachel Newman-Karton, Program Manager, Small Business Administration, 409 Third Street SW, Washington, DC 20416, Phone: 202 619-1816, Email: rachel.newman-karton@sba.gov.

RIN: 3245-AE05

204. Small Business Size Standards: Adjustment of Alternative Size Standard for SBA's 7(a) and CDC/504 Loan Programs for Inflation; and Surety Bond Limits: Adjustments for Inflation [3245-AG16]

Legal Authority: Pub. L. 111-240, sec. 1116

Abstract: SBA will propose amendments its size eligibility criteria for Business Loans, certified development company (CDC) loans under title V of the Small Business Investment Act (504) and economic injury disaster loans (EIDL). For the SBA 7(a) Business Loan Program and the 504 program, the amendments will provide an alternative size standard for loan applicants that do not meet the small business size standards for their industries. The Small Business Jobs Act of 2010 (Jobs Act) established alternative size standards that apply to both of these programs until SBA's Administrator establishes other alternative size standards. For the disaster loan program, the amendments will provide an alternative size standard for loan applicants that do not meet the Small Business Size Standard for their industries. SBA loan program alternative size standards do not affect other Federal Government programs, including Federal procurement.

Timetable:

Action | Date | FR Cite
ANPRM | 03/22/18 | 83 FR 12506
ANPRM Comment Period End | 05/21/18 |
NPRM | 08/00/23 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG16

205. Affiliation in Small Business Procurement Programs; Women-Owned Small Business Program [3245-AH97]

Legal Authority: 15 U.S.C. 632(a); 15 U.S.C. 637(m)

Abstract: Following revisions to the requirements in SBA's 8(a) Business Development and Service-Disabled Veteran-Owned Small Business programs, SBA is issuing conforming revisions to its affiliation rules that govern all of the small-business procurement programs and to the Women-Owned Small Business program. These revisions will ensure consistent requirements for ownership and control across SBA's procurement programs.

Timetable:

Action | Date | FR Cite
NPRM | 09/00/23 |

Regulatory Flexibility Analysis Required: Yes.

Agency Contact: Sam Le, Director of Policy, Planning and Liaison, Small Business Administration, 409 3rd Street SW, Washington, DC 20416, Phone: 202 619-1789.

RIN: 3245-AH97

SMALL BUSINESS ADMINISTRATION (SBA)

Final Rule Stage

206. Small Business Timber Set-Aside Program [3245-AG69]

Legal Authority: 15 U.S.C. 631; 15 U.S.C. 644(a)

Abstract: The U.S. Small Business Administration (SBA or Agency) is amending its Small Business Timber Set-Aside Program (the Program) regulations. The Small Business Timber Set-Aside Program is rooted in the Small Business Act, which tasked SBA with ensuring that small businesses receive a fair proportion of the total sales of government property. Accordingly, the Program requires Timber sales to be set aside for small business when small business participation falls below a certain amount. SBA considered comments received during the Advance Notice of Proposed Rulemaking and Notice of Proposed Rulemaking processes, including on issues such as, but not limited to, whether the saw timber volume purchased through stewardship timber contracts should be included in calculations, and whether the appraisal point used in set-aside sales should be the nearest small business mill. In addition, SBA is considering data from the timber industry to help evaluate the current program and economic impact of potential changes.

Timetable:

Action | Date | FR Cite
ANPRM | 03/25/15 | 80 FR 15697
ANPRM Comment Period End | 05/26/15 |
NPRM | 09/27/16 | 81 FR 66199
NPRM Comment Period End | 11/28/16 |
Final Rule | 11/00/23 |

Regulatory Flexibility Analysis Required: Yes.

Agency Contact: Sam Le, Director of Policy, Planning and Liaison, Small Business Administration, 409 3rd Street SW, Washington, DC 20416, Phone: 202 619-1789.

RIN: 3245-AG69

207. National Defense Authorization Act of 2020, Credit for Lower Tier Subcontracting and other Amendments [3245-AH28]

Legal Authority: Pub. L. 116-92

Abstract: Section 870 of the National Defense Authorization Act of 2020 (NDAA 2020) made a change that will require SBA to amend its regulations. Specifically, the language of NDAA 2020 requires SBA to alter the method and means of accounting for lower tier small business subcontracting. This proposed rule may also contain several smaller changes that might be necessary to implement this provision and other provisions in NDAA 2020.

Timetable:

Action | Date | FR Cite
NPRM | 12/19/22 | 87 FR 77529
NPRM Comment Period End | 02/17/23 |
Final Rule | 09/00/23 |

Regulatory Flexibility Analysis Required: Yes.

Agency Contact: Brenda J. Fernandez, Analyst, Office of Policy, Planning and Liaison, Small Business Administration, 409 Third Street SW, Washington, DC 20416, Phone: 202 205-7337, Email: brenda.fernandez@sba.gov.

RIN: 3245-AH28

208. Small Business Size Standards: Adjustment of Monetary Based Size Standards, Disadvantage Thresholds, and 8(a) Eligibility Thresholds for Inflation [3245-AH93]

Legal Authority: 15 U.S.C. 632(a); 15 U.S.C. 637(a)(6)(A)

Abstract: SBA intends to issue this rulemaking to adjust its monetary small business size standards (i.e., receipts, net income, net worth, and financial assets) for the effects of inflation that have occurred since the last inflation adjustment, which was effective on August 19, 2019. SBA is required by its regulations in 13 CFR 121.102(c) to review the effects of inflation on its monetary standards at least once every five years. As in previous adjustments, SBA will apply the Gross Domestic Product (GDP) price index as a measure of inflation. This action will restore small business eligibility to businesses that have lost that status due to inflation.

In addition, SBA intends to adjust other monetary thresholds in its regulations that are otherwise not adjusted for inflation under FAR 1.109. These thresholds primarily are those used in the 8(a) Business Development and the Economically Disadvantaged Women-Owned Small Business (EDWOSB) programs to determine economic disadvantage. Others are used to maintain eligibility for the 8(a) program. In some cases, these thresholds have not been adjusted for 25 years. This action will permit small businesses to retain eligibility as economically disadvantaged and eligible for the 8(a) program, despite an increase in inflation.

SBA will publicize the rule via the Small Business Procurement Advisory Council, the Integrated Acquisition Environment, fbo.gov, press releases, publication of this rule in the Federal Register, emails to interested parties, and the size standards website at www.sba.gov/size.

Timetable:

Action | Date | FR Cite
Interim Final Rule | 11/17/22 | 87 FR 69118
Interim Final Rule Effective | 12/19/22 |
Interim Final Rule Comment Period End | 01/17/23 |
Final Action | 06/00/23 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AH93

SMALL BUSINESS ADMINISTRATION (SBA)

Completed Actions

209. Small Business Size Standards: Manufacturing and Industries With Employee Based Size Standards in Other Sectors Except Wholesale Trade and Retail Trade [3245-AH09]

Legal Authority: 15 U.S.C. 632(a)

Abstract: The Small Business Jobs Act of 2010 (Jobs Act) requires SBA to conduct every five years a detailed review of all size standards and to make appropriate adjustments to reflect market conditions. As part of the second 5-year review of size standards under the Jobs Act, in this proposed rule, SBA will evaluate all industries in North American Industry Classification System (NAICS) Sector 31-33 (Manufacturing) and industries with employee-based size standards in other sectors except Wholesale Trade and Retail Trade and make necessary adjustments to their size standards. This is one of a series of proposed rules that will examine groups of NAICS sectors. SBA will apply its revised Size Standards Methodology, which is available on its website at http://www.sba.gov/size, to this proposed rule.

Completed:

Reason | Date | FR Cite
Final Rule | 02/15/23 | 88 FR 9970
Final Rule Effective | 03/17/23 |

Regulatory Flexibility Analysis Required: Yes.

Agency Contact: Khem Raj Sharma, Phone: 202 205-7189, Fax: 202 205-6390, Email: khem.sharma@sba.gov.

RIN: 3245-AH09

210. Small Business Size Standards: Adjustment of Monetary Based Size Standards for Inflation [3245-AH17]

Legal Authority: 15 U.S.C. 632(a)

Abstract: In this final rule, the U.S. Small Business Administration (SBA or Agency) adjusts all monetary based industry size standards (i.e., receipts, assets, net worth, and net income) for inflation since the last adjustment in 2014. In accordance with its regulations in 13 CFR 121.102(c), SBA is required to review the effects of inflation on its monetary standards at least once every five years and adjust them, if necessary. In addition, the Small Business Jobs Act of 2010 (Jobs Act) also requires SBA to conduct every five years a detailed review of all size standards and to make appropriate adjustments to reflect market conditions. This action will restore the small business eligibility of businesses that have lost that status due to inflation.

Completed:

Reason | Date | FR Cite
Final Action | 11/17/22 | 87 FR 69118

Regulatory Flexibility Analysis Required: Yes.

Agency Contact: Khem Raj Sharma, Phone: 202 205-7189, Fax: 202 205-6390, Email: khem.sharma@sba.gov.

RIN: 3245-AH17

211. Small Business Lending Company (SBLC) Moratorium Rescission and Removal of the Requirement For a Loan Authorization [3245-AH92]

Legal Authority: Sec. 3(r) and 7(a) of the Small Business Act

Abstract: SBA intends to publish a notice of proposed rulemaking in order to receive comments from the public and the lending industry regarding the proposal to lift the moratorium on permitting new Small Business Lending Companies (SBLC). SBA intends to also propose removal of duplicative forms and other collections of information for the Agency's business loan programs.

Completed:

Reason | Date | FR Cite
NPRM | 11/07/22 | 87 FR 66936
Final Rule | 05/12/23 | 88 FR 21890
Final Rule Effective | 05/12/23 |

Regulatory Flexibility Analysis Required: Yes.

Agency Contact: Dianna L. Seaborn, Phone: 202 205-3645, Email: dianna.seaborn@sba.gov.

RIN: 3245-AH92

[FR Doc. 2023-14552 Filed 7-26-23; 8:45 am]

BILLING CODE 8026-03-P